Proclamation 8370 of May 1, 2009

National Physical Fitness and Sports Month, 2009

By the President of the United States of America

A Proclamation

A morning walk in the neighborhood or Saturday game of catch with a child can brighten the day. Simple activities like these also contribute to our physical fitness. As the weather warms and invites us outside, I encourage Americans to consider the many simple ways to add physical fitness activities to our lives. Incorporating these habits can put a smile on your face, and it can also improve your long-term health and well-being.

This issue deserves our attention because physical activity can help curtail the rise in chronic diseases facing our Nation today. Among children and adolescents, regular physical activity can improve bone health and muscular fitness. Physical activity also helps prevent childhood obesity, which is a serious threat to our Nation’s health. Among adults young and old, physical activity has been shown to combat obesity, while reducing the risk of heart disease, stroke, and certain cancers. Even moderate amounts of physical activity can reduce the risk of premature death. All Americans should understand the significant benefits physical activity provides.

Individuals, employers, and communities can take steps to promote physical fitness. Depending on his or her ability, every American can try to be healthier by, for example, walking or biking to work if it is nearby, being active during free time, and eating healthier meals. Employers can raise awareness and incorporate physical activity in the workplace, and communities can promote access to recreational activities and parks.

The Department of Health and Human Services’ Physical Activity Guidelines for Americans are designed to help Americans of various ages and abilities engage in physical activity that can be incorporated easily into their daily lives. More information about the Guidelines is available at: www.health.gov/paguidelines.

To encourage attention to physical fitness, the President’s Council on Physical Fitness and Sports sponsors the National President’s Challenge, a six-week competition to determine America’s most active State. The Challenge extends from May 1 through July 24 this year. I encourage Americans to register for the Challenge at www.presidentschallenge.org and to begin recording activity to help their State win this year’s competition.

By learning about the benefits of physical fitness, staying motivated, and being active and eating healthy, more Americans can live healthier, longer, and happier lives.

NOW, THEREFORE, I, BARACK OBAMA, President of the United States of America, by virtue of the authority vested in me by the Constitution and laws of the United States, do hereby proclaim May 2009, as National Physical Fitness and Sports Month. I call upon the American people to take control of their health and wellness by making physical activity, fitness, and sports participation an important part of their daily lives. I encourage individuals, businesses, and community organizations to renew their commitment to personal fitness and health by celebrating this month with appropriate events and activities.

IN WITNESS WHEREOF, I have hereunto set my hand this first day of May, in the year of our Lord two thousand nine, and of the Independence of the United States of America the two hundred and thirty-third.

[FR Doc. E9-10713

Filed 5-5-09; 11:15 am]

Billing code 3195-W9-P